Title 3—

The President

Proclamation 9721 of April 6, 2018

National Crime Victims' Rights Week, 2018

By the President of the United States of America

A Proclamation

Year after year, millions of violent and property crimes occur in the United States. Each of these crimes has a victim. These victims can be left with serious physical and emotional wounds, and often with long-lasting, significant financial challenges. Even when victims receive assistance in the aftermath of these crimes, they may live in perpetual fear for their safety or continue to suffer ongoing financial setbacks. During National Crime Victims' Rights Week, we renew our determination to hold criminals accountable for their actions and to reassure all crime victims that they are not alone.

Across our Nation, thousands of dedicated advocates, healthcare professionals, private citizens, and criminal justice personnel strive to help victims as they move toward recovery and return to their lives. The Department of Justice (DOJ), through its Office for Victims of Crime (OVC), supports thousands of these local victim assistance programs. These programs provide many services, including mental health counseling and real-time crisis assistance, such as temporary housing, transportation, and civil legal assistance. OVC also supports State crime victim compensation programs, which help reimburse victims for medical, mental health, funeral, burial, and other expenses resulting from their experiences as victims of crime. Yet, according to the National Crime Victimization Survey, only 42 percent of the victims of violent crime report the offense to police, and only 12 percent of victims of serious violence received services to assist them in the aftermath. Appropriate victim services from trained and qualified providers can transform lives. All those who diligently endeavor to console, heal, and support victims of crime deserve our gratitude and continued support.

My Administration will continue to take a strong stance against crime in the United States. For example, DOJ's Project Safe Neighborhoods initiative has helped coordinate our efforts with State and local jurisdictions to restore public safety to our communities. In addition, earlier this year, I signed the SAFER Act of 2017, which strengthens and reauthorizes efforts to eliminate the nationwide rape kit backlog. If we can prosecute violent crimes more quickly and efficiently, we can help the victims of crime overcome their experiences and prevent others from suffering in the future.

This week, we reaffirm our commitment to alleviate the burdens of crime victims, support those who serve these victims, and reduce the number of future victims by assisting law enforcement to keep our communities safe. Together, we can ensure a safe and prosperous future for all Americans.

NOW, THEREFORE, I, DONALD J. TRUMP, President of the United States of America, by virtue of the authority vested in me by the Constitution and the laws of the United States, do hereby proclaim April 8 through 14, 2018, as National Crime Victims' Rights Week. I urge all Americans, families, law enforcement, community and faith-based organizations, and private organizations to work together to support victims of crime and protect their rights.

IN WITNESS WHEREOF, I have hereunto set my hand this sixth day of April, in the year of our Lord two thousand eighteen, and of the Independence of the United States of America the two hundred and forty-second.

[FR Doc. 2018-07758

Filed 4-11-18; 8:45 am]

Billing code 3295-F8-P